FEDERAL COMMUNICATIONS COMMISSION

Notice of Public Information Collection(s) Being Submitted to OMB for Review and Approval

October 11, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 20, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0298.

Title: Tariffs (Other than Tariff Review Plan), 47 CFR Part 61.

Form Number: N/A.

Type of Review: Revision of a currently approved collection.

Respondents: Business or other for-profit entities.

Number of Respondents: 2,000.

Estimate Time Per Response: 43 hours.

Frequency of Response: Annual, biennial, and on occasion reporting requirements; Third party disclosure.

Total Annual Burden: 682,555.

Total Annual Costs: $1,965,000.

Needs and Uses: 47 CFR Part 61 is designed to ensure that all tariffs filed by common carriers are formally sound, well organized, and provide the FCC and the public with sufficient information to determine the justness and reasonableness as required by the Communications Act of 1934, as amended, of the rates, terms, and conditions in those tariffs.

OMB Control Number: 3060-0771.

Title: Procedure for Obtaining a Special Temporary Authorization in the Experimental Radio Service, 47 CFR 5.61.

Form Number: N/A.

Type of Review: Extension of currently approved collection.

Respondents: Businesses or other for-profit entities; State, Local or Tribal Government.

Number of Respondents: 500.

Estimated Time Per Response: 1 hour.

Total Annual Burden: 500 hours.

Total Annual Cost: None.

Needs and Uses: The commission may issue a special temporary authority (STA) under part 5 of the rules in cases where a need is shown for operation of an authorized station for a limited time only, in a manner other than that specified in the existing authorization, but does not conflict with the Commission's rules. A request for STA may be filed as an informal application.

Federal Communications Commission.
Magalie Roman Salas,
Secretary.

[FR Doc. 00-27040 Filed 10-19-00; 8:45 am]

BILLING CODE 6712-01-P